DEPARTMENT OF COMMERCE

National Oceanic and Atmospheric Administration

15 CFR Part 922

Initiation of Review of Management Plan for Channel Islands National Marine Sanctuary; Intent To Conduct Scoping and Prepare Draft Environmental Analysis and Management Plan

AGENCY: Office of National Marine Sanctuaries (ONMS), National Ocean Service (NOS), National Oceanic and Atmospheric Administration (NOAA), Department of Commerce (DOC).

ACTION: Initiation of review of management plan; intent to conduct scoping and prepare environmental analysis under the National Environmental Policy Act.

SUMMARY: In accordance with Section 304(e) of the National Marine Sanctuaries Act, as amended (NMSA), the Office of National Marine Sanctuaries (ONMS) of the National Oceanic and Atmospheric Administration (NOAA) is initiating a review of the Channel Islands National Marine Sanctuary (CINMS or sanctuary) management plan, to evaluate substantive progress toward implementing the goals of the sanctuary, and to make revisions to the management plan as necessary to fulfill the purposes and policies of the NMSA. NOAA anticipates management plan changes will require preparation of an environmental analysis under the National Environmental Policy Act (NEPA). NOAA will conduct public scoping meetings to gather information and other comments from individuals, organizations, tribes and government agencies on the scope, types, and significance of issues related to the CINMS management plan and the proper scope of environmental analysis for the management plan review. The scoping meetings are scheduled as detailed below under DATES.

DATES: Written comments should be received on or before November 15, 2019. Public scoping meetings will be held on:

(1) Tuesday, October 22, 2019, 6-8 p.m., at Faulkner Gallery, Santa Barbara Public Library, 40 E Anapamu St., Santa Barbara, CA 93101.

(2) Wednesday, October 23, 2019, 6-8 p.m., at Poinsettia Pavilion, 3451 Foothill Road, Ventura, CA 93003.

ADDRESSES: You may submit comments on this document, identified by NOAA-NOS-2019-0110, by any of the following methods:

• Electronic Submission: Submit all electronic public comments via the Federal e-Rulemaking Portal. Go to www.regulations.gov/#!docketDetail;D=NOAA-NOS-2019-0110, click the “Comment Now!” icon, complete the required fields, and enter or attach your comments.

• Mail: UCSB Ocean Science Education, Building 514/MC 6155, Santa Barbara, California 93106, Attn: Chris Mobley, Superintendent.

Instructions: Comments sent by any other method, to any other address or individual, or received after the end of the comment period, may not be considered by NOAA. All comments received are a part of the public record and will generally be posted for public viewing on www.regulations.gov without change. All personally identifying information (e.g., name, address, etc.), confidential business information, or otherwise sensitive information submitted voluntarily by the sender will be publicly accessible. NOAA will accept anonymous comments (enter “N/A” in the required fields if you wish to remain anonymous).

FOR FURTHER INFORMATION CONTACT: Michael Murray, 805-893-6418, cinmsmanagementplan@noaa.gov.

SUPPLEMENTARY INFORMATION:

Background

Channel Islands National Marine Sanctuary (CINMS or sanctuary) was designated in October 1980. It spans 1,470 square miles (1,110 square nautical miles) of southern California marine waters surrounding five offshore islands. The sanctuary boundary begins at the Mean High Water Line and extends seaward to a distance of approximately six nautical miles from the following islands and offshore rocks: San Miguel Island, Santa Cruz Island, Santa Rosa Island, Anacapa Island, Santa Barbara Island, Richardson Rock, and Castle Rock. CINMS is administered by NOAA, within the U.S. Department of Commerce, and was designated to conserve, protect, and enhance the biodiversity, ecological integrity, and cultural legacy of marine resources surrounding the Channel Islands for current and future generations. Sanctuary programs in education, conservation, science, and stewardship help protect CINMS and its nationally-significant resources, while promoting public use and enjoyment through compatible human activities.

The current CINMS management plan was published in 2009, and is available on the internet here: https://channelislands.noaa.gov/management/manplan/welcome.html.

In 2018, NOAA completed an internal assessment of progress toward implementation of the 2009 management plan. The assessment found that 89% (123 of 138 activities) of the management plan's activities had been fully or partially completed or were still being implemented as ongoing functions, while 11% (15 of 138 activities) were not yet started or had been placed on hold. Results of the 2018 internal assessment were discussed at a public meeting of the sanctuary advisory council in May 2018.

Reviewing the CINMS management plan may result in proposed changes to existing programs and policies to address contemporary issues and challenges, and to better protect and manage the sanctuary's resources and qualities. The review process is composed of four major stages: (1) Information collection and characterization; (2) preparation and release of a draft management plan and environmental document under NEPA, and any proposed amendments to the regulations; (3) public review and comment; and (4) preparation and release of a final management plan and environmental document, and any final amendments to the regulations, if applicable. NOAA will also address other statutory and regulatory requirements that may be required pursuant to the Endangered Species Act (ESA), Marine Mammal Protection Act, Essential Fish Habitat (EFH) provisions of the Magnuson-Stevens Fishery Conservation and Management Act (Magnuson-Stevens Act), Coastal Zone Management Act (CZMA), National Historic Preservation Act (NHPA), and tribal consultation responsibilities under Executive Order 13175.

Condition Report

To inform the management plan review, in 2019, NOAA updated the CINMS Condition Report, which was first published in 2009. The new condition report provides an updated summary of sanctuary resources, drivers and pressures on those resources, current conditions and trends for resources, and existing management responses to identified pressures, and introduces a new section on ecosystem services. The report uses quantitative data gathered through 2016, expert scientific input, and a focus on select ecosystem indicators to update the conditions and changes in water quality, habitat, living resources, and maritime archaeological resources in the sanctuary. Overall, the condition report indicates that sanctuary resources are doing well in comparison to other parts of the world's ocean. Many sanctuary resources are showing relative stability or improvement since 2009, including water quality (which is safe for swimming and recreation), nutrient levels, shoreline and seafloor habitats, many fish species, overall native sanctuary biodiversity, and the maritime archaeological resources. The 2019 condition report also identifies some pressures and activities that have impacts on sanctuary resources, such as vessel traffic, introduction of non-native species, ocean noise, marine debris, harmful algal blooms, and climate-driven changes to ocean conditions. An ecosystem services assessment is introduced to the condition report, as well as an ecosystem assessment independently authored by members of the Chumash community. The 2019 condition report is available on the internet at: https://sanctuaries.noaa .gov/science/condition/cinms/welcome .html.

Preliminary Priority Topics

NOAA has prepared a preliminary list of priority topics to consider during the CINMS management plan review process. NOAA is interested in public comment on these topics, as well as any other issues of interest that are relevant to the CINMS management plan review (including additional topics raised through public comment, and tribal and interagency consultation).

Partnership-Based Management

Through collaborative partnerships with other federal and state agencies, universities, and many other organizations, NOAA is interested in providing effective and coordinated management of marine resources and human activities within CINMS. This includes partnerships that enhance scientific research, sustain ongoing monitoring of environmental and socioeconomic conditions, enforce regulations, share community-based initiatives, and implement effective education, outreach, and volunteer programs. NOAA seeks input on strengthening and optimizing partnerships within the sanctuary to increase management effectiveness.

Climate-Driven Impacts

NOAA is a leader in developing tools to educate the public education about climate change impacts on CINMS, such as ocean acidification. NOAA also measures climate change impacts in and around the sanctuary and supports partner organizations that do the same. This includes changes to pH within the sanctuary and changes to deep sea corals. With changes expected in the occurrence of cyclic and seasonal phenomena, rising sea levels, and shifts in species distributions, NOAA will look for opportunities to effectively respond by adapting operations and management approaches to mitigate climate impacts.

Collaborative Research and Monitoring

There is a continuing need for characterization, research, and monitoring to understand baseline conditions of marine resources and human activities, ecosystem functions, the status and trends of biological and historic resources, and changing socioeconomic conditions within CINMS. Findings from research and monitoring help inform sound management of activities in CINMS. Anticipated priority areas of scientific study for CINMS, or partner-led programs, include, but are not limited to: Improving understanding of the distribution of large transient species (e.g., giant seabass and sharks); monitoring habitats of interest and concern within the sanctuary (e.g., deep sea coral gardens); increasing the amount of sanctuary seafloor mapped; improving knowledge of acoustic habitats within CINMS; understanding and quantifying human use of CINMS; and tracking pollutant levels in sanctuary sediments, water samples, and fish tissues. In support of these science activities, NOAA seeks to continue working with a variety of partners aboard CINMS research vessels.

Protection of Sanctuary Resources

Using an ecosystem-based approach to management, NOAA examines and evaluates existing and potential resource management issues that may adversely affect sanctuary resources. CINMS regulations protect sanctuary resources while allowing for compatible uses. Anticipated priorities for resource protection activities that are either led by NOAA or supported by partner-led programs include, but are not limited to: Continued efforts to reduce the risk of lethal ship strikes to endangered whales through innovative approaches designed to elicit cooperative behavior from the shipping industry (e.g., vessel speed reduction programs); detection and control actions to limit introductions of non-native species (e.g., Undaria pinnatifida and Sargassum horneri); working with partners to ensure continued protection of species and habitats within the state and federal network of marine reserves and marine conservation areas established within CINMS; assisting with efforts to restore endangered white abalone; and pursuing innovative and collaborative approaches to reduce the amount of marine debris accumulating within CINMS (e.g., removal of lost fishing gear and floating plastic debris). NOAA seeks to continue and enhance its collaborative approach to enforcing federal and state rules and regulations applicable within the sanctuary to protect sanctuary resources. NOAA expects to continue developing remote technology tools (e.g., shore-based radar systems and mobile applications) that make monitoring and patrol operations more streamlined and effective.

Education, Outreach, and Citizen Science

Enhancing public awareness and appreciation of sanctuary resources is a cornerstone of the CINMS mission. Recent initiatives and advancements offer the potential for NOAA and its partners to enhance and expand education and outreach programming to reach larger audiences. These advancements include using remote video-link technologies, developing mobile applications to enhance community science activities, improving video production, and partnering with the recreation and tourism industry. NOAA is also committed to continuing shipwreck discovery missions within the sanctuary and providing compelling public education about these maritime heritage discoveries. NOAA is seeking the public's view on developing and improving programs designed to enhance public awareness and stewardship, support environmentally responsible recreation and tourism, sustain volunteer contributions, and improve socioeconomic understanding of visitor use. NOAA is also interested in collaboratively developing educational programming in partner facilities open to public visitation. Facilities include the east wing of the Ocean Science Education Building at the University of California Santa Barbara, and the Channel Islands Boating Center in Oxnard.

Regulatory and Boundary Changes

In preparing for public scoping, NOAA has not identified the need for any changes to CINMS regulations, such as adjustments to the regulations or boundaries of the marine reserve and conservation area network within the sanctuary, or changes to the sanctuary's boundary. However, regulatory changes may be considered based on a review of public scoping comments and, if proposed, would be presented for public review with the publication of a proposed rulemaking.

Public Comments

NOAA is interested in hearing the public's views on:

• The potential impacts of ongoing and proposed sanctuary activities discussed above, and ways to mitigate impacts to sanctuary resources.

• The preliminary priority topics discussed above, and whether these are the appropriate priority topics, or if there are additional topics NOAA should consider.

• The effectiveness of the existing management plan in meeting the mandates of the NMSA (16 U.S.C. 1431 et seq.) and supporting the mission and goals expressed in the current strategic plan for the National Marine Sanctuary System (available on the internet here: https://sanctuaries.noaa.gov/about/five-year-strategy-2017-2022.html).

Federal Consultations

This document also advises the public that NOAA will coordinate its consultation responsibilities under section 7 of the ESA, EFH under the Magnuson-Stevens Act, section 106 of the NHPA (16 U.S.C. 470), and Federal Consistency review under the CZMA. Through its ongoing NEPA process and the use of NEPA documents and public and stakeholder meetings, NOAA will also coordinate compliance with other federal laws.

In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures; and develop in consultation with identified consulting parties alternatives and proposed measures that might avoid, minimize, or mitigate any adverse effects on historic properties and describe them in any environmental analysis.

NOAA will also initiate communications and consultation steps with relevant federally recognized tribal governments pursuant to Executive Order 13175, Department of Commerce tribal consultation policies, and NOAA procedures for government-to-government consultation with federally recognized Indian Tribes.

Authority: 16 U.S.C. 1431 et seq.

John Armor,
Director, Office of National Marine Sanctuaries.

[FR Doc. 2019-20247 Filed 9-30-19; 8:45 am]

BILLING CODE 3510-NK-P